DEPARTMENT OF TRANSPORTATION

Federal Highway Administration

Tier 1 Environmental Impact Statement for the Chesapeake Bay Crossing Study, Anne Arundel County, Baltimore County, Calvert County, Cecil County, Dorchester County, Harford County, Kent County, Queen Anne's County, St. Mary's County, Somerset County, and Talbot County, Maryland

AGENCY: Federal Highway Administration (FHWA), Maryland Transportation Authority (MDTA), DOT.

ACTION: Notice of intent to prepare a Tier 1 Environmental Impact Statement (EIS).

SUMMARY: The FHWA, as the Lead Federal Agency, and MDTA, as the Local Project Sponsor, are issuing this notice to advise the public of our intention to prepare a Tier 1 EIS for the Chesapeake Bay Crossing Study in Maryland. The Tier 1 EIS will assess the potential environmental impacts of addressing congestion at the Chesapeake Bay Bridge, which could result in added capacity at the existing bridge or at a new location across the Chesapeake Bay. The Tier 1 EIS will be prepared in accordance with regulations implementing the National Environmental Policy Act (NEPA) and provisions of the Fixing America's Surface Transportation Act (FAST Act) and will include a range of reasonable corridor alternatives, including a “No Build” alternative.

FOR FURTHER INFORMATION CONTACT: Jeanette Mar, Environmental Program Manager, Federal Highway Administration, Maryland Division, 10 S. Howard Street, Suite 2450, Baltimore, MD 21201, (410) 779-7152, or email at jeanette.mar@dot.gov. Melissa Williams, Director, Division of Planning & Program Development, Maryland Transportation Authority, 2310 Broening Highway, Baltimore, MD 21224, (410) 537-5650, or email at mwilliams9@mdta.state.md.us.

SUPPLEMENTARY INFORMATION: The purpose of this notice is to: (1) Alert interested parties to the FHWA and MDTA plan to prepare the Tier 1 EIS; (2) provide information on the nature of the proposed action; (3) solicit public and agency input regarding the scope of the Tier 1 EIS, including the purpose and need, alternatives to be considered, and impacts to be evaluated; and (4) announce that public and agency scoping meetings will be conducted.

The Chesapeake Bay Crossing Study Tier 1 EIS will identify the preferred corridor alternative for addressing congestion at the Chesapeake Bay Bridge and evaluate its financial viability. The study area is a broad geographic area that includes the entire length of the Chesapeake Bay in Maryland, spanning approximately 100 miles from the northern end near Havre de Grace to the southern border with Virginia between St. Mary's and Somerset Counties. The study will include a review of existing roadway infrastructure and environmental conditions along both shores of the Bay to identify potential crossing corridors in Maryland. Each potential corridor alternative will consist of a corridor band approximately one mile wide. This width may be adjusted to accommodate the specific conditions at each crossing as the study progresses.

Once the full range of potential corridor alternatives is developed, the study will include identification of a range of reasonable corridor alternatives for screening. It is assumed that approximately ten to fifteen corridors will be identified as reasonable for additional study. These corridors will then be screened based on measurable criteria to the corridor alternatives that will be retained for analysis in the Tier 1 Draft EIS. The EIS will be prepared by MDTA for FHWA to fulfill the requirements established in NEPA pursuant to current FHWA regulations and guidance.

The EIS will be prepared as a tiered document, providing a systematic approach for advancing potential transportation improvements. The analyses undertaken during Tier 1 will result in identification of the preferred corridor alternative that best meets the study purpose and need. The FHWA intends to issue a single Final Tier 1 EIS and Record of Decision (ROD) unless FHWA determines statutory criteria or practicability considerations precluding issuance of a combined document. If the combined Final Tier 1 EIS/ROD identifies an Action (Build) alternative, MDTA will complete a Tier 2 NEPA document where the agency will evaluate site-specific, project level impacts and required mitigation commitments. The scope of future environmental studies will be commensurate with the proposed action and potential environmental consequences.

FHWA and MDTA will undertake a scoping process for the Chesapeake Bay Crossing Study that will allow the public and interested agencies to comment on the scope of the Tier 1 EIS. This public outreach effort will educate and engage stakeholders, and solicit stakeholder input. FHWA and MDTA will invite all interested individuals, organizations, and public agencies to comment on the scope of the Tier 1 EIS, including the purpose and need, corridor alternatives to be studied, impacts to be evaluated, and evaluation methods to be used.

FHWA and MDTA will develop preliminary public outreach materials (such as fact sheets, brochures, maps or other materials) to support the scoping process. A public scoping presentation in webinar format will be held in November 2017. The meeting will be held online and available for viewing at the study Web site (www.baycrossingstudy.com). MDTA will also provide local viewing of the presentation at multiple locations. Presentation times and locations will be announced on the project Web site, in newspaper advertisements, and by other media.

Initial scoping will provide an opportunity for public input on issues relevant to the Tier 1 EIS. More information on public outreach activities, including future public open houses, will be available in a project coordination plan on the study Web site. All public meetings related to the study will be held in locations accessible to persons with disabilities. Any person who requires special assistance, such as a language interpreter, should contact the Chesapeake Bay Crossing Study: Tier 1 NEPA Team at (410) 537-5650 or via email at info@baycrossingstudy.com at least 48 hours before the open house or meeting.

Letters inviting agencies to be cooperating or participating in the environmental review process are being sent to those agencies that have jurisdiction or may have an interest in the Chesapeake Bay Crossing Study: Tier 1 NEPA. FHWA and MDTA will notify cooperating and participating agencies of a separate agency scoping meeting to be held October 25, 2017, in Annapolis, Maryland.

Written comments or questions on the scope of the Tier 1 EIS should be mailed to the Chesapeake Bay Crossing Study: Tier 1 NEPA, c/o Ms. Melissa Williams, Director, Division of Planning & Program Development, Maryland Transportation Authority, 2310 Broening Highway, Baltimore, MD 21224; sent via email to mwilliams9@mdta.state.md.us; or submitted on the study Web site (www.baycrossingstudy.com).

(Catalog of Federal Domestic Assistance Program Number 20.205, Highway Research, Planning and Construction. The regulations implementing Executive Order 12372 regarding intergovernmental consultation on Federal programs and activities apply to this program.)

Issued on: October 2, 2017.
Gregory Murrill,
Division Administrator, Federal Highway Administration, Baltimore, Maryland.

[FR Doc. 2017-21916 Filed 10-10-17; 8:45 am]

BILLING CODE P